DEPARTMENT OF VETERANS AFFAIRS

38 CFR Part 21

RIN 2900-AP65

Technical Corrections—VA Vocational Rehabilitation and Employment Nomenclature Change for Position Title

AGENCY: Department of Veterans Affairs.

ACTION: Final rule.

SUMMARY: The Department of Veterans Affairs is amending its regulations by making nonsubstantive changes to ensure consistency within its regulations regarding a nomenclature change in the title of a Vocational Rehabilitation and Employment position.

DATES: Effective Date: This final rule is effective May 2, 2016.

FOR FURTHER INFORMATION CONTACT: C.J. Riley, Policy Analyst, Vocational Rehabilitation and Employment Service (28), Veterans Benefits Administration, Department of Veterans Affairs, 810 Vermont Avenue NW., Washington, DC 20420, (202) 461-9600. (This is not a toll-free telephone number.)

SUPPLEMENTARY INFORMATION: In January 2000, the name of VA's program, Vocational Rehabilitation and Counseling (VR&C), responsible for assisting veterans with service-connected disabilities to obtain and maintain suitable employment and achieve maximum independence in daily living was changed to Vocational Rehabilitation and Employment (VR&E). This change reflects the major goal of the program by focusing on employment. As outlined by VA's Office of Field Operations (OFO) in OFO Letter 20F-11-09, a National Journey-Level Counseling Psychologist (CP)/Vocational Rehabilitation Counselor (VRC) Performance Plan was implemented on December 16, 2003. The performance plan described how the job duties and qualifications for a CP and VRC were the same. As a result, the position description for CP was amended to include the synonymous title of VRC. Since this change, VA has updated several regulations to include this synonymous title. To ensure consistency within the regulations, this final rule amends VA regulations to reflect this nomenclature change in the title for this VR&E position.

VA is also correcting two spelling mistakes. In 38 CFR 21.94(b), VA corrects the spelling of the word “statement.” The current text misspells “statement” as “staement.” In § 21.4232(a)(2)(i), VA corrects the spelling of “Rehabilation” to read “Rehabilitation”. No substantive changes are intended by these amendments.

Administrative Procedure Act

This final rule concerns only agency organization, procedure, or practice and, therefore, is not subject to the notice and comment provisions of 5 U.S.C. 553(b). See 38 U.S.C. 553(b)(A). This final rule consists of only nonsubstantive changes that will make the regulations more accurate and less confusing to readers. For this reason, VA has also determined that there is good cause to waive the 30-day delay effective date requirement under 5 U.S.C. 553(d)(3).

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action” requiring review by the Office of Management and Budget (OMB), unless OMB waives such review, as “any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in this Executive Order.”

The economic, interagency, budgetary, legal, and policy implications of this regulatory action have been examined, and it has been determined not to be a significant regulatory action under Executive Order 12866. VA's impact analysis can be found as a supporting document at http://www.regulations.gov, usually within 48 hours after the rulemaking document is published. Additionally, a copy of the rulemaking and its impact analysis are available on VA's Web site at http://www.va.gov/orpm/, by following the link for “VA Regulations Published From FY 2004 Through Fiscal Year to Date.”

Regulatory Flexibility Act

The Secretary hereby certifies that this final rule will not have a significant economic impact on a substantial number of small entities as they are defined in the Regulatory Flexibility Act (5 U.S.C. 601-612). This final rule will directly affect only individuals and will not directly affect small entities. Therefore, pursuant to 5 U.S.C. 605(b), this rulemaking is exempt from the regulatory flexibility analysis requirements of section 604.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This final rule will have no such effect on State, local, and tribal governments, or on the private sector.

Paperwork Reduction Act

This final rule contains no provisions constituting a collection of information under the Paperwork Reduction Act of 1995 (44 U.S.C. 3501-3521).

Catalog of Federal Domestic Assistance

The Catalog of Federal Domestic Assistance number and title for the program affected by this final rule is 64.116, Vocational Rehabilitation for Disabled Veterans.

Signing Authority

The Secretary of Veterans Affairs, or designee, approved this document and authorized the undersigned to sign and submit the document to the Office of the Federal Register for publication electronically as an official document of the Department of Veterans Affairs. Robert D. Snyder, Chief of Staff, Department of Veterans Affairs, approved this document on April 21, 2016, for publication.

List of Subjects in 38 CFR Part 21

Administrative practice and procedure, Armed forces, Civil rights, Claims, Colleges and universities, Conflict of interests, Education, Employment, Grant programs—education, Grant programs—veterans, Health care, Loan programs—education, Loan programs—veterans, Manpower training programs, Reporting and recordkeeping requirements, Schools, Travel and transportation expenses, Veterans, Vocational education, Vocational rehabilitation.

Dated: April 26, 2016.
William F. Russo,
Director, Office of Regulation Policy & Management, Office of the General Counsel, Department of Veterans Affairs.

For the reasons set out in the preamble, the Department of Veterans Affairs amends 38 CFR part 21 as follows:

PART 21—VOCATIONAL REHABILITATION AND EDUCATION

Subpart A—Vocational Rehabilitation and Employment Under 38 U.S.C. Chapter 31

1. The authority citation for part 21, subpart A, continues to read as follows:

Authority: 38 U.S.C. 501(a), chs. 18, 31, and as noted in specific sections.

§ 21.53 [Amended]

2. Amend § 21.53 by:

a. In the first sentence of paragraph (f), removing “counseling psychologist” and adding, in its place, “Counseling Psychologist (CP) or Vocational Rehabilitation Counselor (VRC)”.

b. In the last sentence of paragraph (f), removing “counseling psychologist” and adding, in its place, “CP or VRC”.

c. In paragraph (g) introductory text, removing “counseling psychologist” and adding, in its place, “CP or VRC”.

§ 21.57 [Amended]

3. Amend § 21.57(d) by removing “counseling psychologist” and adding, in its place, “Counseling Psychologist (CP) or Vocational Rehabilitation Counselor (VRC)”.

§ 21.60 [Amended]

4. Amend § 21.60 by:

a. In paragraph (b)(1), removing “counseling psychologist” and adding, in its place, “Counseling Psychologist (CP) or Vocational Rehabilitation Counselor (VRC)”.

b. In paragraph (e)(1), removing “counseling psychologist” and adding, in its place, “CP or VRC”.

§ 21.72 [Amended]

5. Amend § 21.72 by:

a. In the first sentence of paragraph (c)(1), removing “counseling psychologist” and adding, in its place, “Counseling Psychologist (CP) or Vocational Rehabilitation Counselor (VRC)”.

b. In the second sentence of paragraph (c)(2), removing “counseling psychologist” and adding, in its place, “CP or VRC”.

c. In paragraph (d)(2), removing “counseling psychologist” and adding, in its place, “CP or VRC”.

§ 21.74 [Amended]

6. Amend § 21.74 by:

a. In paragraph (c)(1), removing “counseling psychologist” and adding, in its place, “Counseling Psychologist (CP) or Vocational Rehabilitation Counselor (VRC)”.

b. In paragraphs (c)(2) and (c)(3), removing all references to “counseling psychologist” and adding, in each place, “CP or VRC”.

§ 21.76 [Amended]

7. Amend the first sentence of § 21.76(b) by removing “counseling psychologist” and adding, in its place, “Counseling Psychologist (CP) or Vocational Rehabilitation Counselor (VRC)”.

§ 21.78 [Amended]

8. Amend the first sentence of § 21.78(d) by removing “counseling psychologist” and adding, in its place, “Counseling Psychologist (CP) or Vocational Rehabilitation Counselor (VRC)”.

§ 21.92 [Amended]

9. Amend § 21.92 by:

a. In paragraph (b), removing “counseling psychologist,” and adding, in its place, “Counseling Psychologist (CP) or Vocational Rehabilitation Counselor (VRC)”.

b. In paragraph (c), removing “counseling psychologist” and adding, in its place, “CP or VRC”.

c. In paragraph (d), removing “counseling psychologist” and adding, in its place, “CP or VRC”.

§ 21.94 [Amended]

10. Amend § 21.94 by:

a. In paragraph (a), removing “counseling psychologist” and adding, in its place, “Counseling Psychologist (CP), Vocational Rehabilitation Counselor (VRC),”.

b. In the first sentence of paragraph (b) introductory text, removing “staement” and adding, in its place, “statement”, and removing “counseling psychologist” and adding, in its place, “CP or VRC”.

§ 21.98 [Amended]

11. Amend § 21.98(b) introductory text by removing “counseling psychologist” and adding, in its place, “Counseling Psychologist (CP), the Vocational Rehabilitation Counselor (VRC),”.

§ 21.100 [Amended]

12. Amend § 21.100 by:

a. In paragraph (d)(1), removing “counseling psychologists” and adding, in its place, “Counseling Psychologists (CP) or Vocational Rehabilitation Counselors (VRC)”.

b. In paragraph (d)(3)(ii), removing “counseling psychologists” and adding, in its place, “a CP or VRC”.

c. In paragraph (d)(4), removing “counseling psychologist” and adding, in its place, “CP or VRC”.

§ 21.180 [Amended]

13. Amend the second sentence of § 21.180(c) by removing “counseling psychologist” and adding, in its place, “Counseling Psychologist (CP), Vocational Rehabilitation Counselor (VRC),”.

§ 21.274 [Amended]

14. Amend § 21.274(e)(1) by removing “counseling psychologist” and adding, in its place, “Counseling Psychologist (CP), Vocational Rehabilitation Counselor (VRC),”.

§ 21.299 [Amended]

15. Amend the second sentence of § 21.299(a) by removing “counseling psychologist” and adding, in its place, “Counseling Psychologist (CP) or Vocational Rehabilitation Counselor (VRC)”.

§ 21.364 [Amended]

16. Amend the second sentence of § 21.364(a) introductory text by removing “counseling psychologist” and adding, in its place, “Counseling Psychologist (CP) or Vocational Rehabilitation Counselor (VRC)”.

§ 21.380 [Amended]

17. Amend § 21.380(a)(1) by removing “Counseling psychologists” and adding, in its place, “Counseling Psychologists (CP) or Vocational Rehabilitation Counselors (VRC)”.

Subpart C—Survivors' and Dependents' Educational Assistance Under 38 U.S.C. Chapter 35

18. The authority citation for part 21, subpart C, continues to read as follows:

Authority: 38 U.S.C. 501(a), 512, 3500-3566, and as noted in specific sections.

§ 21.3102 [Amended]

19. Amend § 21.3102(a) by removing “VA counseling psychologist” and adding, in its place, “Counseling Psychologist (CP) or Vocational Rehabilitation Counselor (VRC)”.

§ 21.3301 [Amended]

20. Amend § 21.3301(e) by removing “counseling psychologist” and adding, in its place, “Counseling Psychologist (CP) or Vocational Rehabilitation Counselor (VRC)”.

Subpart D—Administration of Educational Assistance Programs

21. The authority citation for part 21, subpart D, continues to read as follows:

Authority: 10 U.S.C. 2141 note, ch. 1606; 38 U.S.C. 501(a), chs. 30, 32, 33, 34, 35, 36, and as noted in specific sections.

§ 21.4232 [Amended]

22. Amend § 21.4232 by:

a. In paragraph (a)(2) introductory text, removing “counseling psychologist” and adding, in its place, “Counseling Psychologist (CP) or Vocational Rehabilitation Counselor (VRC)”.

b. In paragraph (a)(2)(i), removing “Rehabilation” and adding, in its place, “Rehabilitation”.

c. In paragraphs (a)(3) and (d), removing all references to “counseling psychologist” and adding, in each place, “CP or VRC”.

Subpart I—Temporary Program of Vocational Training for Certain New Pension Recipients

23. The authority citation for part 21, subpart I, continues to read as follows:

Authority: Pub. L. 98-543, 38 U.S.C. 501 and chapter 15, sections specifically cited, unless otherwise noted.

24. Amend § 21.6005 by adding a paragraph (j)(10) to read as follows:

§ 21.6005 Definitions.

* * * * *

(j) * * *

(10) Vocational Rehabilitation Counselor.

§ 21.6052 [Amended]

25. Amend § 21.6052 by:

a. In paragraph (b)(1), removing “counseling psychologist” and adding, in its place, “Counseling Psychologist (CP) or Vocational Rehabilitation Counselor (VRC)”.

b. In paragraph (c), removing “counseling psychologist” and adding, in its place, “CP or VRC”.

§ 21.6056 [Amended]

26. Amend § 21.6056 by:

a. In the last sentence of paragraph (a), removing “counseling psychologist” and adding, in its place, “Counseling Psychologist (CP) or Vocational Rehabilitation Counselor (VRC)”.

b. In the first sentence in paragraph (b), removing “counseling psychologist” and adding, in its place, “CP or VRC”.

c. In the first sentence in paragraph (c), removing “counseling psychologist” and adding, in its place, “CP or VRC”.

§ 21.6059 [Amended]

27. Amend § 21.6059 by:

a. In paragraph (b)(1), removing “counseling psychologist” and adding, in its place, “Counseling Psychologist (CP) or Vocational Rehabilitation Counselor (VRC)”.

b. In paragraph (b)(2), removing “counseling psychologist” and adding, in its place, “CP or VRC”.

§ 21.6070 [Amended]

28. Amend § 21.6070 by:

a. In the first sentence in paragraph (b), removing “counseling psychologist” and adding, in its place, “Counseling Psychologist (CP) or Vocational Rehabilitation Counselor (VRC)”.

b. In paragraph (e) introductory text, removing “counseling psychologist” and adding, in its place, “CP or VRC”.

§ 21.6072 [Amended]

29. Amend § 21.6072(d)(2) by removing “counseling psychologist” and adding, in its place, “Counseling Psychologist (CP) or Vocational Rehabilitation Counselor (VRC)”.

§ 21.6080 [Amended]

30. Amend § 21.6080(d) introductory text by removing “counseling psychologist” and adding, in its place, “Counseling Psychologist (CP) or Vocational Rehabilitation Counselor (VRC)”.

Subpart J—Temporary Program of Vocational Training and Rehabilitation

31. The authority citation for part 21, subpart J, continues to read as follows:

Authority: Pub. L. 98-543, sec. 111; 38 U.S.C. 1163; Pub. L. 100-687, sec. 1301, unless otherwise noted.

§ 21.6509 [Amended]

32. Amend § 21.6509(d) by removing “counseling psychologist” and adding, in its place, “Counseling Psychologist (CP) or Vocational Rehabilitation Counselor (VRC)”.

§ 21.6515 [Amended]

33. Amend the first sentence of § 21.6515(a) by removing “counseling psychologist” and adding, in its place, “Counseling Psychologist (CP) or Vocational Rehabilitation Counselor (VRC)”.

[FR Doc. 2016-10112 Filed 4-29-16; 8:45 am]

BILLING CODE 8320-01-P